DEPARTMENT OF COMMERCE

International Trade Administration

[A-427-822]

Notice of Final Determination of Sales at Less Than Fair Value; Certain Cold-Rolled Carbon Steel Flat Products From France

AGENCY: Import Administration, International Trade Administration, Department of Commerce.

EFFECTIVE DATE: October 3, 2002.

FOR FURTHER INFORMATION CONTACT: Angelica Mendoza, John Drury or Abdelali Elouaradia at (202) 482-3019, (202) 482-0195 and (202) 482-1374, respectively; AD/CVD Enforcement, Office 8, Group III, Import Administration, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Act) by the Uruguay Round Agreements Act. In addition, unless otherwise indicated, all citations to the Department of Commerce (Department) regulations are to the regulations at 19 CFR part 351 (April 2001).

Final Determination

We determine that certain cold-rolled carbon steel flat products (cold-rolled steel) from France are being sold, or are likely to be sold, in the United States at less than fair value (LTFV), as provided in section 735 of the Act. The estimated margins of sales at LTFV are shown in the “Suspension of Liquidation” section of this notice.

Case History

On May 4, 2001, the Department issued its negative preliminary determination in this proceeding. See Notice of Preliminary Determination of Sales at Not Less than Fair Value: Certain Cold-Rolled Carbon Steel Flat Products from France, 67 FR 31204 (May 9, 2002) (Preliminary Determination). That preliminary determination covered the following manufacturer/exporter, Usinor Group (Usinor). Since the publication of the Preliminary Determination the following events have occurred.

On May 21, 2002, the Department published in the Federal Register its amended preliminary determination. See Notice of Amended Preliminary Determination of Sales at Less Than Fair Value: Certain Cold-Rolled Carbon Steel Flat Products from France, 67 FR 37387 (May 29, 2002) (Amended Prelim).

On May 23, 2002, Usinor requested that the Department postpone its final determination until not later than 135 days after the date of the publication of the preliminary determination in the Federal Register and requested an extension of the provisional measures. On June 6, 2002, we extended the final determination until not later than 135 days after the publication of the preliminary determination in the Federal Register. See Notice of Postponement of Final Determination of Antidumping Duty Investigation: Certain Cold-Rolled Carbon Steel Flat Products from France, 67 FR 40911-01 (June 14, 2002).

The Department verified sections A and B of Usinor's responses from May 13, 2002, through May 24, 2002, at Usinor's facilities in Florange (for Sollac Atlantique S.A., Sollac Lorraine, S.A., and Usinor Packaging, S.A.), Montataire (Société Lorraine de Produits Metallurgiques (SLPM)), and Rheims, France (Produits d'Usines Metallurgiques (PUM)). From June 17, 2002, through June 19, 2002, the Department verified section C of Usinor's responses at Usinor Steel Corporation, Inc.’s (USC), its U.S. affiliate, headquarters in New York, New York. The Department also verified section D of Usinor's responses from June 19, 2002, through June 28, 2002, at Usinor's facilities in Florange, France. See Memorandum For the File; “Home Market Sales Verification of Section B Questionnaire Responses Submitted by Usinor in the Antidumping Duty Investigation of Certain Cold-Rolled Carbon Steel Flat Products,'' July 25, 2002 (Verification Report), to Richard Weible, Director, Office 8; “United States Sales Verification of Section C Questionnaire Responses Submitted by Usinor in the Antidumping Duty Investigation of Certain Cold-Rolled Carbon Steel Flat Products from France,'' July 24, 2002 (U.S. Verification Report), to Neal M. Halper, Director, Office of Accounting; “Verification Report on the Cost of Production and Constructed Value Data Submitted by Usinor,” July 17, 2002 (Cost Verification Report). Public versions of these, and all other Departmental memoranda referred to herein, are on file in the Central Records Unit, room B-099 of the main Commerce building.

On May 20, 2002, one of the petitioners (Nucor Corporation) requested a public hearing in this investigation. The remaining petitioners (Bethlehem Steel Corporation, National Steel Corporation, United States Steel Corporation, Steel Dynamics, Inc., WCI Steel, Inc., and Weirton Steel Corporation) requested a public hearing on June 10, 2002. We did not receive a request for hearing from Usinor. On August 9, 2002, the petitioner which first requested a public hearing withdrew its request for a public hearing. On August 12, 2002, the remaining petitioners withdrew their request for a public hearing. On August 7, 2002, we received case briefs from Usinor and petitioners. We received rebuttal briefs from all parties on August 12, 2002.

With respect to scope, in the preliminary LTFV determinations in these cases, the Department preliminarily excluded certain porcelain enameling steel from the scope of these investigations. See Scope Appendix to the Notice of Preliminary Determination of Sales at Less Than Fair Value: Certain Cold-Rolled Carbon Steel Flat Products from Argentina, 67 FR 31181 (May 9, 2002) (Scope Appendix—Argentina Preliminary LTFV Determination). On June 13, 2002, we issued a preliminary decision on the remaining 75 scope exclusion requests filed in a number of the on-going cold-rolled steel investigations (see the June 13, 2002, memorandum regarding “Preliminary Scope Rulings in the Antidumping Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea” (Preliminary Scope Rulings), which is on file in the Department's Central Records Unit (CRU), room B-099 of the main Department building. We gave parties until June 20, 2002, to comment on the preliminary scope rulings, and until June 27, 2002, to submit rebuttal comments. We received comments and/or rebuttal comments from petitioners and respondents from various countries subject to these investigations of cold-rolled steel. In addition, on June 13, 2002, North American Metals Company (an interested party in the Japanese proceeding) filed a request that the Department issue a “correction” for an already excluded product. On July 8, 2002, the petitioners objected to this request.

At the request of multiple respondents, the Department held a public hearing with respect to the Preliminary Scope Rulings on July 1, 2002. The Department's final decisions on the scope exclusion requests are addressed in the “Scope of Investigation” section below.

Period of Investigation

The period of investigation (POI) is July 1, 2000, through June 30, 2001.

Analysis of Comments Received

All issues raised in the case and rebuttal briefs by parties to this investigation are addressed in the “Issues and Decision Memorandum” (Decision Memorandum) from Joseph A. Spetrini, Deputy Assistant Secretary, Import Administration, to Faryar Shirzad, Assistant Secretary for Import Administration, dated September 23, 2002, which is hereby adopted by this notice. A list of the issues which parties have raised and to which we have responded, all of which are in the Decision Memorandum, is attached to this notice as an Appendix. Parties can find a complete discussion of all issues raised in this review and the corresponding recommendations in this public memorandum which is on file in B-099.

In addition, a complete version of the Decision Memorandum can be accessed directly on the World Wide Web at http://www.ia.ita.doc.gov/frn. The paper copy and electronic version of the Decision Memorandum are identical in content.

Scope of Investigation

For purposes of this investigation, the products covered are certain cold-rolled (cold-reduced) flat-rolled carbon-quality steel products. A full description of the scope of this investigation is contained in “Appendix I” attached to the Notice of Correction to Final Determination of Sales at Less Than Fair Value: Certain Cold-Rolled Carbon Steel Flat Products from Australia, 67 FR 52934 (August 14, 2002). For a complete discussion of the comments received on the Preliminary Scope Rulings, see the memorandum regarding “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” dated July 10, 2002, which is on file in the CRU.

Changes Since the Preliminary Determination

Based on our analysis of comments received and findings at verification, we have made certain changes in the margin calculations. These changes are noted in various sections of the Decision Memorandum, accessible in B-099 and on the Web at http://www.ia.ita.doc.gov/frn.

Use of Facts Available

In accordance with section 776 of the Act, we have determined that the use of facts available is appropriate for certain portions of our analysis of Usinor. For a discussion of our determination with respect to these matters, see the Decision Memorandum.

Continuation of Suspension of Liquidation

In accordance with section 735(c)(1)(B)(ii) of the Act, for Usinor, we are directing the Customs Service to continue to suspend liquidation of all entries of subject merchandise from France that are entered, or withdrawn from warehouses, for consumption on or after May 29, 2002, the date of publication of the Amended Preliminary Determination in the Federal Register. The Customs Service shall continue to require a cash deposit or posting of a bond equal to the estimated amount by which the normal value exceeds the U.S. price as shown below. This suspension-of-liquidation instruction will remain in effect until further notice.

We determine that the following weighted-average dumping margins exist for the period July 1, 2000, through June 30, 2002:

Manufacturer/exporter | Margin (percent)
Usinor Group | 11.59
All Others | 11.59

ITC Notification

In accordance with section 735(d) of the Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue an antidumping order directing Customs officials to assess antidumping duties on all imports of the subject merchandise entered, or withdrawn from warehouse for consumption on or after the effective date of the suspension of liquidation.

This determination is issued and published in accordance with sections 735(d) and 777(i)(1) of the Act.

Dated: September 23, 2002.
Faryar Shirzad,
Assistant Secretary for Import Administration.

Appendix I—Issues in Decision Memorandum

1. Downstream Sales to Affiliated Parties

2. Collapsing of Downstream Producers

3. “Exempted” Steel Service Centers that Failed the Arm's-Length Test

4. Constructed Export Price (CEP) Offset

5. CEP Profit

6. Home Market Indirect Selling Expenses

7. Home Market Credit Expense

8. Home Market Credit Expense for Sales by SLPM

9. Home Market Inventory Carrying Cost

10. Home Market Movement Expenses

11. Home Market Warranty Expense

12. Home Market Adjustment to Normal Value

13. Commissions Paid to Affiliated Parties

14. Inland Freight to Warehouse Expense for Sales by SLPM

15. U.S. Indirect Selling Expense

16. USC's Accounts Receivables Securitization Program

17. U.S. Credit Expense Calculation

18. U.S. Movement Expenses

19. U.S. Sales Not Previously Reported

20. U.S. Sales of “Non-Prime” Merchandise

21. Weighted-Average Margin Calculation—Zeroing Negative Margins

22. Unreconcilable Differences

23. By-Product Offset

24. Rail Rental Revenues

25. Major Input Rule—Sales to Affiliated Resellers

26. Major Input Rule—Usinor Purchases from Affiliates

27. Disregarded Transactions

28. Miscellaneous Selling, General and Administrative (SG&A) Related Accruals and Provisions

29. SG&A Expenses—Accelerated Tax Depreciation

30. SG&A Expenses—Foreign Exchange Losses

[FR Doc. 02-24791 Filed 10-2-02; 8:45 am]

BILLING CODE 3510-DS-P